OFFICE OF THE UNITED STATES TRADE REPRESENTATIVE

Allocation of Second Additional Fiscal Year (FY) 2010 In-Quota Volume for Raw Cane Sugar

AGENCY: Office of the United States Trade Representative.

ACTION: Notice.

SUMMARY: The Office of the United States Trade Representative (USTR) is providing notice of country-by-country allocations of a second additional fiscal year (FY) 2010 in-quota quantity of the tariff-rate quota (TRQ) for imported raw cane sugar.

DATES: Effective Date: July 9, 2010.

ADDRESSES: Inquiries may be mailed or delivered to Leslie O'Connor, Director of Agricultural Affairs, Office of Agricultural Affairs, Office of the United States Trade Representative, 600 17th Street, NW., Washington, DC 20508.

FOR FURTHER INFORMATION CONTACT: Leslie O'Connor, Office of Agricultural Affairs, 202-395-6127.

SUPPLEMENTARY INFORMATION: Pursuant to Additional U.S. Note 5 to chapter 17 of the Harmonized Tariff Schedule of the United States (HTS), the United States maintains TRQs for imports of raw cane and refined sugar.

Section 404(d) (3) of the Uruguay Round Agreements Act (19 U.S.C. 3601(d)(3)) authorizes the President to allocate the in-quota quantity of a TRQ for any agricultural product among supplying countries or customs areas. The President delegated this authority to the United States Trade Representative under Presidential Proclamation 6763 (60 FR 1007).

On July 6, 2010, the Secretary of Agriculture announced a second additional in-quota quantity of the FY 2010 TRQ for imported raw cane sugar for the remainder of FY 2010 (ending September 30, 2010) in the amount of 272,155 metric tons* raw value (MTRV). This quantity is in addition to the minimum amount to which the United States is committed pursuant to the World Trade Organization (WTO) Uruguay Round Agreements (1,117,195 MTRV) and the previous additional in-quota quantity announced by the Secretary of Agriculture on April 23, 2010. The total amount of in-quota quantity raw cane sugar authorized thus far in FY 2010 is 1,570,787 MTRV. Based on additional consultations with quota holders, USTR is allocating the 272,155 MTRV to the following countries in the amounts specified below:

* Conversion factor: 1 metric ton = 1.10231125 short tons.

Country | Second additional FY 2010 allocation
Argentina | 16,953
Australia | 32,723
Belize | 4,337
Bolivia | 3,154
Brazil | 57,166
Colombia | 9,462
Costa Rica | 5,914
Dominican Republic | 21,200
Ecuador | 4,337
El Salvador | 10,251
Guatemala | 18,924
Guyana | 4,731
Honduras | 3,943
India | 3,154
Jamaica | 4,337
Malawi | 3,943
Mauritius | 1,000
Mozambique | 5,125
Nicaragua | 8,279
Panama | 11,433
Peru | 16,164
South Africa | 9,068
Swaziland | 6,308
Thailand | 5,520
Zimbabwe | 4,731

These allocations are based on the countries' historical shipments to the United States. The allocations of the raw cane sugar TRQ to countries that are net importers of sugar are conditioned on receipt of the appropriate verifications of origin and certificates for quota eligibility must accompany imports from any country for which an allocation has been provided.

Ronald Kirk,
United States Trade Representative.

[FR Doc. 2010-16823 Filed 7-8-10; 8:45 am]

BILLING CODE 3190-W0-P